DEPARTMENT OF HEALTH AND HUMAN SERVICES

Administration for Community Living

[OMB# 0985-0059]

Agency Information Collection Activities; Submission for OMB Review; Public Comment Request; Data Collection Materials for the Evaluation of the Administration for Community Living's American Indian, Alaska Natives and Native Hawaiian Programs (OAA Title VI)

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the proposed revision for the information collection requirements related to Evaluation of the Administration for Community Living's American Indian, Alaska Natives and Native Hawaiian Programs (OAA Title VI).

DATES: Submit written comments on the collection of information by September 17, 2020.

ADDRESSES: Submit written comments and recommendations for the proposed information collection within 30 days of publication of this notice to www.reginfo.gov/public/do/PRAMain Find the Outcome Evaluation for ACL's Long-term Ombudsman Program (LTCOP) information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Kristen Hudgins, Administration for Community Living, Washington, DC 20201, Kristen.hudgins@acl.hhs.gov or 202-795-7732.

SUPPLEMENTARY INFORMATION: In compliance with 44 U.S.C. 3507, ACL has submitted the following proposed collection of information to OMB for review and clearance. The Administration for Community Living (ACL) is requesting approval for a revised data collection associated with the Evaluation of the Administration for Community Living's (ACL) American Indian, Alaska Natives, and Native Hawaiian Programs (Older Americans Act [OAA] Title VI; short title: Evaluation of the Title VI Programs). OAA Title VI establishes grants to Native Americans for nutrition services, supportive services, and family caregiver support services. The purpose of Title VI is “to promote the delivery of supportive services, including nutrition services, to American Indians, Alaskan Natives, and Native Hawaiians that are comparable to services provided under Title III” (42 U.S.C. 3057), which provides nutrition, caregiver and supportive services to the broader U.S. population. Title VI is comprised of three parts; Part A provides nutrition and supportive services to American Indians and Alaska Natives, Part B provides nutrition and supportive services to Native Hawaiians, and Part C provides caregiver services to any programs that have Part A/B.

The evaluation will consist of removing one and adding a new data collection activity. ACL is requesting to revise the currently approved data collection under OMB 0985-0059 by removing the caregiver survey and adding a follow-up tribal program staff interview. The proposed revisions also include removing annual performance reporting data elements from the currently approved IC under OMB 0985-0059 to the OMB approved Title VI Annual Performance Report under OMB 0985-0007.

Comments in Response to the 60-Day Federal Register Notice

A notice was published in the Federal Register on May 19, 2020 in FR 85 29948. There were no public comments received during the 60-day FRN comment period.

For review, please visit the ACL website https://www.acl.gov/about-acl/public-input.

Estimated Program Burden: ACL estimates the burden associated with this collection of information as follows:

Respondent type | Form name | Number of annual respondents | Number of responses per respondent | Average burden (in hours) per response | Annual burden hours
Program director | Program staff follow-up interview guide | 12 | 1 | 1 | 12
Total |  | 12 |  |  | 12

Dated: August 11, 2020.
Mary Lazare,
Principal Deputy Administrator.

[FR Doc. 2020-17972 Filed 8-17-20; 8:45 am]

BILLING CODE 4154-01-P